DEPARTMENT OF COMMERCE

Foreign-Trade Zones Board

[Order No. 1639]

Approval for Manufacturing Authority, CNH America, LLC (Construction and Agricultural Equipment), Fargo, North Dakota

Pursuant to its authority under the Foreign-Trade Zones Act of June 18, 1934, as amended (19 U.S.C. 81a-81u), the Foreign-Trade Zones Board (the Board) adopts the following Order:

Whereas, the Fargo Municipal Airport Authority, grantee of FTZ 267, has requested manufacturing authority within FTZ 267 -- Site 2, in Fargo, North Dakota (FTZ Docket 60-2008, filed October 23, 2008 and amended April 17, 2009);

Whereas, notice inviting public comment has been given in the Federal Register (73 FR 68406, 11-18-2008; amended 74 FR 19041-19042, 04-27-2009); and,

Whereas, the Board adopts the findings and recommendations of the examiner's report, and finds that the requirements of the FTZ Act and the Board's regulations are satisfied, and that approval of the application, as amended, is in the public interest;

Now, therefore, the Board hereby grants authority for the manufacture of construction and agricultural equipment within FTZ 267 on behalf of CNH America, LLC, as described in the amended application and Federal Register notices, subject to the FTZ Act and the Board's regulations, including Section 400.28.

Signed at Washington, DC, this 5th day of August 2009.

Ronald K. Lorentzen,
Acting Assistant Secretary of Commerce for Import Administration, Alternate Chairman, Foreign-Trade Zones Board.
Attest:
Andrew McGilvray,
Executive Secretary.

[FR Doc. E9-19674 Filed 8-14-09; 8:45 am]

BILLING CODE 3510-DS-S